DEPARTMENT OF JUSTICE

Drug Enforcement Administration

[Docket No. DEA-392]

Manufacturer of Controlled Substances Registration: Organix, Inc.

ACTION: Notice of registration.

SUMMARY: Organix, Inc. applied to be registered as a manufacturer of certain basic classes of narcotic and non-narcotic controlled substances. The DEA grants Organix, Inc. registration as a manufacturer of those controlled substances.

SUPPLEMENTARY INFORMATION: By notice dated April 21, 2014, and published in the Federal Register on April 28, 2014, 79 FR 23376, Organix, Inc., 240 Salem Street, Woburn, Massachusetts 01801, applied to be registered as a manufacturer of certain basic classes of controlled substances. No comments or objections have been received.

The Drug Enforcement Administration (DEA) has considered the factors in 21 U.S.C. 823(a) and determined that the registration of Organix, Inc. to manufacture the basic classes of controlled substances is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 823(a), and in accordance with 21 CFR 1301.33, the above-named company is granted registration as a bulk manufacturer of the basic classes of controlled substances listed:

Controlled substance | Schedule
Gamma Hydroxybutyric Acid (2010) | I
Lysergic acid diethylamide (7315) | I
Heroin (9200) | I
Morphine (9300) | II

The company plans to manufacture reference standards for distribution to its research and forensics customers.

Dated: August 27, 2014.
Joseph T. Rannazzisi,
Deputy Assistant Administrator.

[FR Doc. 2014-21060 Filed 9-3-14; 8:45 am]

BILLING CODE 4410-09-P